DEPARTMENT OF HEALTH AND HUMAN SERVICES

Meeting of the Chronic Fatigue Syndrome Advisory Committee

AGENCY: Office of the Secretary, Office of the Assistant Secretary for Health, Department of Health and Human Services (HHS)

ACTION: Notice.

SUMMARY: As stipulated by the Federal Advisory Committee Act, the U.S. Department of Health and Human Services is hereby giving notice that the Chronic Fatigue Syndrome Advisory Committee (CFSAC) will hold a meeting. The meeting will be open to the public.

DATES: The meeting will be held on Monday, June 16, 2014, from 12:00 p.m. until 5:00 p.m., E.T. and Tuesday, June 17, 2014, from 9:00 a.m. until 5:00 p.m., ET.

ADDRESSES: Department of Health and Human Services, Hubert H. Humphrey Building, 200 Independence Avenue SW., Great Hall, First Floor, Washington, DC 20201. For a map and directions to the Hubert H. Humphrey building, see http://www.hhs.gov/about/hhh.html.

FOR FURTHER INFORMATION CONTACT: Any questions about meeting registration or public comment sign-up should be directed to CFSAC@seamoncorporation.com.

Please direct other inquiries to cfsac@hhs.gov.

SUPPLEMENTARY INFORMATION: CFSAC was established on September 5, 2002 to advise, consult with, and make recommendations to the Secretary, through the Assistant Secretary for Health, on a broad range of topics including: (1) The current state of knowledge and research and the relevant gaps in knowledge and research about the epidemiology, etiologies, biomarkers, and risk factors relating to myalgic encephalomyelitis/chronic fatigue syndrome (ME/CFS), and identifying potential opportunities in these areas; (2) impact and implications of current and proposed diagnosis and treatment methods for ME/CFS; (3) development and implementation of programs to inform the public, health care professionals, and the biomedical research communities about ME/CFS advances; and (4) strategies to improve the quality of life of ME/CFS patients.

The agenda for this meeting is being developed and will be posted on the CFSAC Web site, http://www.hhs.gov/advcomcfs/ when finalized. The meeting will be live-video streamed at http://www.hhs.gov/live and archived through the CFSAC Web site: http://www.hhs.gov/advcomcfs/. Listening-only via telephone will be available on both days. Call-in information will be posted on the CFSAC Web site. Individuals who plan to attend in-person should register at http://www.blsmeetings.net/CFSAC. All registration should be completed by June 12, 2014. Attendance by visitors who are not U.S. citizens is welcome, but prior approval is required by sending a request to CFSAC@seamoncorporation.com before June 5, 2014. Members of the media will also need to register. All attendees will be required to show valid government-issued picture identification (state or federal) for entry into the federal building. Non-federal employees will receive a wrist band that must be worn the entire time. Security requires all non-federal employees to be escorted the entire time they are in the building. Upon leaving the building for any reason, persons will be required to follow the security steps mentioned above and receive a new wrist band.

Members of the public will have the opportunity to provide public comment at the meeting or via telephone. International calls cannot be accommodated. You are no longer required to submit a written copy of your testimony unless you wish to have it included in the public record. Individuals wishing to provide public comment in-person or via phone will be required to request time for public comment by Monday, June 9, 2014, at the following link: http://www.blsmeetings.net/CFSAC. An email to acknowledge receipt of the request for public comment will be sent from CFSAC@seamoncorporaton.com. Another email will be sent by June 12, 2014, to confirm the time that has been given to each individual who is scheduled to provide public comment. Each speaker will be limited to three minutes for public comment. No exceptions will be made. Priority will be given to individuals who have not provided public comment within the previous year.

Individuals wishing to submit written comment for the public record should send an electronic copy of their written testimony to: CFSAC@seamoncorporation.com by June 12, 2014. The document for public record must not exceed 5 single-spaced, typed pages, using a 12-point typeface; it is preferred that the document be prepared in the MS Word format. Please note that PDF files, handwritten notes, charts, and photographs will not be posted on the CFSAC Web site, but will be available upon request at CFSAC@seamoncorporation.com and for public view during the CFSAC meeting at the Hubert H. Humphrey Building, Department of Health and Human Services, 200 Independence Ave. SW., Great Hall, Washington, DC 20201.

Requests to participate in the public comment session and provide written testimony will not be accepted through the CFSAC email account. Please send all questions about specific public comment requests or inquiries to CFSAC@seamoncorporation.com.

Only written testimony submitted for public record and received in advance of the meeting are part of the official meeting record and will be posted to the CFSAC Web site. Materials submitted should not include sensitive personal information, such as social security number, birthdate, driver's license number, state identification or foreign country equivalent, passport number, financial account number, credit or debit card number. If you wish to remain anonymous the document must specify this.

Persons who wish to distribute printed materials in person to CFSAC members should submit one copy to the Designated Federal Officer at cfsac@hhs.gov, prior to June 12, 2014.

Dated: May 16, 2014.
Nancy C. Lee,
Designated Federal Officer, Chronic Fatigue Syndrome Advisory Committee.

[FR Doc. 2014-12371 Filed 5-28-14; 8:45 am]

BILLING CODE 4150-28-P